ENVIRONMENTAL PROTECTION AGENCY

40 CFR Part 52

[IN138-2; FRL-7056-2]

Approval and Promulgation of Implementation Plans; IN

AGENCY: Environmental Protection Agency (EPA).

ACTION: Final rule.

SUMMARY: In this final rule, the EPA is announcing approval of a State Implementation Plan (SIP) revision submitted by the Indiana Department of Environmental Management (IDEM) on June 8, 2000. The revised SIP pertains to the Indiana motor vehicle inspection and maintenance (I/M) program. The purpose of this action is to approve certain amendments to the Indiana program, which EPA originally approved on March 19, 1996 (61 FR 11142). EPA proposed approval of the June 8, 2000 SIP revision submittal in the Federal Register on June 28, 2001 (66 FR 34391). Because EPA did not receive any public comments in response to its proposed approval, we are approving Indiana's submission.

DATES: This rule is effective on October 29, 2001.

ADDRESSES: Copies of this SIP revision request are available for public inspection during normal business hours at the following address: U.S. Environmental Protection Agency, Region 5, Air and Radiation Division, 77 West Jackson Boulevard, Chicago, Illinois 60604. (It is recommended that you telephone Francisco J. Acevedo at (312) 886-6061 before visiting the Region 5 Office.)

FOR FURTHER INFORMATION CONTACT: Francisco J. Acevedo, Regulation Development Section, Air Programs Branch (AR-18J), U.S. Environmental Protection Agency, Region 5, 77 West Jackson Boulevard, Chicago, Illinois 60604, Telephone: (312) 886-6061, e-mail: acevedo.francisco@epa.gov.

SUPPLEMENTARY INFORMATION: Throughout this document, the terms “you” and “me” refer to the reader of this proposed rulemaking and to sources subject to the State rule addressed by this proposed rulemaking, and the terms “we,” “us,” or “our” refer to the EPA.

Table of Contents

A. What is a State Implementation Plan (SIP)?

B. What is the federal approval process for a SIP?

C. What does federal approval of a state rule mean to me?

D. What is EPA addressing in this document?

E. Does Indian's submission meet the requirements for approval of a SIP revision?

F. What action is EPA taking today?

G. Administrative Requirements

A. What Is a State Implementation Plan (SIP)?

Section 110 of the Clean Air Act (Act or CAA) requires states to develop air pollution control regulations and strategies to ensure that state air quality meets the national ambient air quality standards established by the EPA. Each state must submit the regulations and emission control strategies to the EPA for approval and promulgation into the federally enforceable SIP.

Each federally approved SIP protects air quality primarily by addressing air pollution at its points of origin. The SIPs can be and generally are extensive, containing many state regulations or other enforceable documents and supporting information, such as emission inventories, monitoring documentation, and modeling (attainment) demonstrations.

B. What Is the Federal Approval Process for a SIP?

In order for state regulations to be incorporated into the federally enforceable SIP, states must formally adopt the regulations and emission control strategies consistent with state and federal requirements. This process generally includes public notice, public hearings, public comment periods, and formal adoption by state-authorized rulemaking bodies.

Once a state has adopted a rule, regulation, or emissions control strategy it submits it to us for inclusion into the SIP. We must provide public notice and seek additional public comment regarding the proposed federal action on the state submission. If we receive adverse comments we address them prior to any final federal action (we generally address them in a final rulemaking action).

The EPA incorporates into the federally approved SIP all state regulations and supporting information it has approved under section 110 of the Act. Records of such SIP actions are maintained in the Code of Federal Regulations (CFR) at title 40, part 52, titled “Approval and Promulgation of Implementation Plans.” The actual state regulations the EPA has approved are not reproduced in their entirety in the CFR, but are “incorporated by reference,” which means that EPA has approved a given state regulation (or rule) with a specific effective date.

C. What Does Federal Approval of a State Rule Mean to Me?

Enforcement of a state rule before and after it is incorporated into a federally approved SIP is primarily a state responsibility. After the rule is federally approved, however, the CAA authorizes the EPA to take enforcement actions against violators. The CAA also offers citizens legal recourse to address violations, as provided in section 304 of the Act.

D. What Is EPA Addressing in This Document?

In a letter dated June 8, 2000 to Francis X. Lyons, Regional Administrator, Lori F. Kaplan, Commissioner, Indiana Department of Environmental Management, submitted amendments to the Indiana I/M rule as a SIP revision. These amendments revise portions of the I/M requirements in Lake/Porter Counties (Hammond, Gary, East Chicago) and Clark/Floyd Counties (Louisville area) in Indiana. Among the most significant changes being made to the program are: the exemption of the current calendar year model vehicles plus the three previous model year vehicles from emission testing; the inclusion of language that allows the use of the IM93 alternative vehicle emission test currently being used in the program; language that updates the requirement to test vehicles equipped with second generation on-board diagnostics systems (OBDII); and the elimination of the off-cycle test, which is the emission test currently required when there is a change in possession of motor vehicle titles. In addition, a number of minor administrative changes are also included. On June 28, 2001, we published a Notice of Proposed Rulemaking (NPR) to approve the SIP revision request. The public comment period was open through July 30, 2001, and EPA received no comments. This Federal Register document takes final action to approve the June 8, 2000 SIP revision submittal.

E. Does Indiana's Submission Meet the Requirements for Approval of a SIP Revision?

The state submittal has met the public notice requirements for SIP submissions in accordance with 40 CFR 51.102. The submittal also satisfied the completeness criteria of 40 CFR part 51, appendix V. In addition, as explained above and in more detail in our proposal published June 28, 2001, these revisions meet the substantive SIP requirements on the CAA including I/M program requirements addressed in 40 CFR part 51, subpart S. In the June 28 proposal, we discussed in detail how the state's submittal meets each of the relevant requirements of the I/M rule and EPA's rationale for approval. The reader is referred to that discussion for the rationale of this final action.

F. What Action Is EPA Taking?

The EPA is approving Indiana's I/M SIP revision submitted by Indiana on June 8, 2000. The SIP revision amends certain program elements of Indiana's motor vehicle inspection and maintenance requirements.

G. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use”(66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective October 29, 2001.

Under section 307(b)(1) of the Clean Air Act, petitions for judicial review of this action must be filed in the United States Court of Appeals for the appropriate circuit by November 26, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Ozone, Volatile organic compounds.

Authority: 42 U.S.C. 7401 et seq.

Dated: September 14, 2001.
Thomas V. Skinner,
Regional Administrator, Region 5.

Part 52, chapter I, title 40 of the Code of Federal Regulations is amended as follows:

PART 52—[AMENDED]

1. The authority citation for part 52 continues to read as follows:

Authority: 42 U.S.C. 7401-7671q.

Subpart P—Indiana

2. Section 52.770, is amended by adding paragraph (c)(142) to read as follows:

§ 52.770 Identification of plan.

* * * * *

(c) * * *

(142) On June 8, 2000 the Indiana Department of Environmental Management submitted a State Implementation Plan (SIP) revision amending certain provisions of the Indiana vehicle inspection and maintenance (I/M) program in operation in Lake, Porter, Clark, and Floyd Counties. Among the most significant changes being made to the program include: the exemption of the current calendar year model vehicle plus the (3) previous model years vehicles from emission testing; the inclusion of language that allows the use of the IM93 alternative vehicle emission test currently being used in the program; language that updates the requirement to test vehicles equipped with second generation on-board diagnostics systems (OBDII); and the elimination of the off-cycle test, which is the emission test currently required when there is a change in possession of motor vehicle titles. The Air Pollution Control Board amended 326 IAC 13-1.1 and repealed 326 IAC 13-1.1-17, thereby putting in place the revisions to the I/M program.

(i) Incorporation by reference.

(A) 326 Indiana Administrative Code 13-1.1 adopted December 2, 1998, effective January 22, 1999.

(ii) Other material.

(A) June 8, 2000 letter and enclosures from the Indiana Department of Environmental Management (IDEM) Commissioner to the Regional Administrator of the United States Environmental Protection Agency (USEPA) submitting Indiana's revision to the ozone State Implementation Plan (SIP).

[FR Doc. 01-24200 Filed 9-26-01; 8:45 am]

BILLING CODE 6560-50-P